DEPARTMENT OF THE INTERIOR

Bureau of Land Management

[LLNVSO0560. L71220000. EU0000. LVRWF091620; N-81451; 9-08807; TAS: 14X8069]

Conveyance of Public Lands for a Public Heliport Facility in Clark County, NV

AGENCY: Bureau of Land Management, Interior.

ACTION: Notice of realty action.

SUMMARY: The Secretary of the Interior is directed by the Transportation, Treasury, Housing and Urban Development, the Judiciary, the District of Columbia, and Independent Agencies' Appropriations Act of 2006, Public Law (Pub. L.) 109-115, Section 180, to convey approximately 229 acres of public land in Clark County for the Southern Nevada Regional Heliport, a public facility. The land is under the jurisdiction of the Bureau of Land Management (BLM).

DATE: Interested parties may submit written comments regarding the proposed conveyance of the land until September 21, 2009.

ADDRESSES: Mail written comments to the BLM Field Manager, Las Vegas Field Office, 4701 N. Torrey Pines Drive, Las Vegas, NV 89130.

FOR FURTHER INFORMATION CONTACT: Cheryl G. Cote (702) 515-5104.

SUPPLEMENTARY INFORMATION: The heliport facility will lie within a corridor established by Public Law 107-282 dated November 6, 2002. The 2,640-foot wide Transportation and Utilities Corridor will be located along Interstate 15 south of Las Vegas Valley to the border between the states of California and Nevada, and will be managed for multiple uses.

The following described public land in Clark County, Nevada, has been examined and found suitable for conveyance to Clark County for airport purposes. The parcel of land is located south of Las Vegas, Nevada, approximately 3.5 miles southwest of the Sloan Road and Interstate 15 interchange and east of State Route 604, and is described as:

Mount Diablo Meridian, Nevada

T. 24 S., R. 60 E.,

Sec. 1, that portion lying east of State Route 604 as depicted as Tract A on the map entitled Clark County Public Heliport Facility, dated May 3, 2004.

The area described contains 229 acres, more or less.

Public Law 109-115, Section 180, directs the Secretary of the Interior to convey to Clark County, Nevada, all right, title, and interest of the United States in the parcel described, subject to valid existing rights and for no consideration. Clark County must use the parcel for the operation of a heliport. If the County ceases to use any of the land conveyed for the purpose described, title to the parcel will revert to the United States, at the option of the United States, and the County will be responsible for any reclamation necessary.

The land is not needed for any Federal purpose. The conveyance is consistent with the BLM Las Vegas Resource Management Plan, dated October 5, 1998, and would be in the public interest. The proposed conveyance for the Southern Nevada Regional Heliport was analyzed in the environmental analysis (EA) Proposed Southern Nevada Regional Heliport. This document was approved by the Federal Aviation Administration on December 9, 2008. The BLM is a cooperating agency on the preparation of the EA and will issue its own decision. A copy of the EA and the reference map are available at the Las Vegas Field Office.

Upon publication of this notice in the Federal Register, the land described will be segregated from all other forms of appropriation under the public land laws, including the general mining laws. The conveyance, when issued, will be subject to:

1. Valid existing rights;

2. Right-of-way N-7100 for oil and gas pipeline purposes granted to CalNev Pipeline Co., its successors and assigns, pursuant to the Act of Feb. 20, 1920, as amended (30 U.S.C. 185);

3. Right-of-way N-43923 for fiber optic line purposes granted to MCI WorldCom, its successors and assigns, pursuant to the Act of Oct. 21, 1976 (43 U.S.C. 1761);

4. Right-of-way N-47888 for fiber optic line purposes granted to Sprint Communications, its successors and assigns, pursuant to the Act of Oct. 21, 1976 (43 U.S.C. 1761);

5. Right-of-way N-48572 for fiber optic line purposes granted to AT&T, its successors and assigns, pursuant to the Act of Oct. 21, 1976 (43 U.S.C. 1761);

6. Right-of-way N-56213 for oil and gas pipeline purposes granted to CalNev Pipeline Co., its successors and assigns, pursuant to the Act of Feb. 20, 1920, as amended (30 U.S.C. 185);

7. Permit N-85582 for soil testing purposes authorized to Clark County Department of Aviation, its successors and assigns, pursuant to the Act of Oct. 21, 1976 (43 U.S.C. 1761).

8. An appropriate indemnification clause protecting the United States from claims arising out of the patentee's use, occupancy, or operations on the property.

9. To the extent required by law, the conveyance will be subject to the requirements on section 120(h) of the Comprehensive Environmental Response, Compensation and Liability Act (42 U.S.C. 9620(h)).

Interested parties may submit written comments regarding whether the BLM followed proper administrative procedures as directed by Public Law 109-115, Section 180. Any adverse comments will be reviewed by the BLM Nevada State Director, who may sustain, vacate, or modify this realty action. In the absence of any adverse comments, this realty action will become the final determination of the Department of the Interior. Before including your address, phone number, e-mail address, or other personal identifying information in your comment, you should be aware that your entire comment—including your personal identifying information—may be made publicly available at any time. While you can ask us in your comment to withhold your personal identifying information from public review, we cannot guarantee that we will be able to do so.

Only written comments submitted by postal service or overnight mail to the Field Manager, BLM Las Vegas Field Office, will be considered properly filed. Electronic mail, facsimile, or telephone comments will not be considered properly filed. In the absence of any adverse comments, the decision will become effective on October 5, 2009. The lands will not be available for conveyance until after the decision becomes effective.

Authority: Public Law 109-115, Section 180.

Kimber Liebhauser,
Assistant Field Manager, Lands, Las Vegas Field Office.

[FR Doc. E9-18718 Filed 8-4-09; 8:45 am]

BILLING CODE 4310-HC-P